DEPARTMENT OF COMMERCE

National Oceanic and Atmospheric Administration

[I.D. 012402C]

New England Fishery Management Council; Public Meeting

AGENCY: National Marine Fisheries Service (NMFS), National Oceanic and Atmospheric Administration (NOAA), Commerce.

ACTION: Notice of public meeting.

SUMMARY: The New England Fishery Management Council and Mid-Atlantic Council (Councils) are scheduling a public meeting of their joint Monkfish Oversight Committee and Advisory Panel in February, 2002 to consider actions affecting New England fisheries in the exclusive economic zone (EEZ). Recommendations from these groups will be brought to the full Council for formal consideration and action, if appropriate.

DATES: The joint meeting will be held on Tuesday, February 12, 2002 and the committee meeting will be held Wednesday, February 13, 2002. See SUPPLEMENTARY INFORMATION for specific dates and times.

ADDRESSES: The meeting will be held at the Sheraton Ferncroft, 50 Ferncroft Road, Danvers, MA 01923; telephone: (978) 777-2500.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Date and Agenda

Tuesday, February 12, 2002 at 10:00 a.m. and Wednesday, February 13, 2002 at 9:30 a.m.

Tuesday's joint meeting Agenda: The Advisory Panel will elect a chair. The Committee and Advisors will review the Amendment 2 purpose and need, timeline, stock status and management advice from SAW 34, PDT recommendations and scoping comments on Amendment 2 to the Monkfish Fishery Management Plan (FMP). Advisors will provide the Committee with initial comments and recommendations for measures to be considered in Amendment 2. Items to be considered are covered in the Amendment 2 scoping document.

Wednesday's committee meeting agenda: The Committee will outline Amendment 2 goals and objectives and provide guidance to the PDT on the analysis needed to develop management alternatives. The Committee will also set a meeting schedule to enable the completion of timeline milestones, particularly finalization of alternatives to be considered by the Council for inclusion in the Draft Supplemental Environmental Impact Statement at the May Council meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: January 25, 2002.
Richard W. Surdi,
Acting Director, Office of Sustainable Fisheries, National Marine Fisheries Service.

[FR Doc. 02-2262 Filed 1-29-02; 8:45 am]

BILLING CODE 3510-22-S